DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from January 5 to January 9, 2009.

For further information, please contact Edson Beall via: United States Postal Service mail, at the National Register of Historic Places, 2280, National Park Service, 1849 C St. NW., Washington, DC 20240; in person (by appointment), 1201 Eye St. NW., 8th floor, Washington, DC 20005; by fax, 202-371-2229; by phone, 202-354-2255; or by e-mail, Edson_Beall@nps.gov.

Dated: February 17, 2009.
J. Paul Loether,
Chief, National Register of Historic Places/National Historic Landmarks Program.

Key: State, County, Property Name, Address/Boundary, City, Vicinity, Reference Number, Action, Date, Multiple Name

ARIZONA

Maricopa County,

Sun-Up Ranch, W. Frontage Rd. of Black Canyon Hwy., 1.75 mi. N. of Desert Hills interchange, New River, 08001307, LISTED, 1/08/09

Pima County,

Empirita Cattle Ranch Rural Historic District, Between Vail & Benson S. of I10, Benson vicinity, 04001247, LISTED, 1/08/09 (Cattle Ranching in Arizona MPS)

Santa Cruz County,

Little Outfit Schoolhouse, The, 571 Canelo Pass Rd., Patagonia vicinity, 08001275, LISTED, 1/08/09

CALIFORNIA

Monterey County,

Monterey County Court House, 240 Church St., Salinas, 08000878, LISTED, 1/08/09

San Benito County,

San Juan Bautista Third Street Historic District, 3rd St. between 406 3rd St. and Franklin St., San Juan Bautista, 08001277, LISTED, 1/09/09

San Joaquin County,

Philomathean Clubhouse, 1000 N. Hunter St., Stockton, 08001278, LISTED, 1/05/09

Santa Clara County,

Young, Earl and Virginia, House, 1888 White Oaks Rd., Campbell, 08001279, LISTED, 1/08/09

Tuolumne County,

Cooper Cabin, Address Restricted, Emigrant Wilderness, Stanislaus National Forest, Strawberry vicinity, 08001314, LISTED, 1/09/09

GEORGIA

Bibb County,

League, Joseph and Mary Jane, House, 1849 Waverland Dr., Macon, 08001280, LISTED, 1/09/09

Fulton County,

New Hope African Methodist Episcopal Church and Cemetery, 3012 Arden Rd., NW., Atlanta, 08001281, LISTED, 1/09/09

Habersham County,

Lawton Place, 136 7th Ave., Mount Airy, 08001282, LISTED, 1/08/09

IOWA

Clarke County,

Chicago, Burlington and Quincy Depot, 215 N. Main St., Osceola, 08001283, LISTED, 1/08/09 (Advent & Development of Railroads in Iowa MPS)

KENTUCKY

Marshall County,

Cherokee State Park, 542 Kenlake Rd., Hardin vicinity, 08001120, LISTED, 1/09/09

MISSOURI

Buchanan County,

Lawler Motor Company Building, 1224 Frederick Ave., St. Joseph, 08001285, LISTED, 1/08/09 (St. Joseph, Buchanan County, Missouri MPS AD)

St. Louis Independent City,

St. Cecilia Historic District, Bounded by S. Grand Blvd., Delor St., Virginia Ave., and Bates St., St. Louis, 08001286, LISTED, 1/08/09 (South St. Louis Historic Working and Middle Class Streetcar Suburbs MPS)

MONTANA

Silver Bow County,

Wold Barn, SW corner of jct. of Hecla and 3rd Sts., Melrose, 08001287, LISTED, 1/08/09

NORTH CAROLINA

Ashe County,

Lansing School, E. side of NC 194 at jct. with NC 1517, Lansing, 08001288, LISTED, 1/08/09

Guilford County,

First Baptist Church, 701 E. Washington Dr., High Point, 08001289, LISTED, 1/08/09

Halifax County,

Enfield Graded School, 700 Branch St., Enfield, 08001290, LISTED, 1/08/09

Henderson County,

Cold Spring Park Historic District, Bounded roughly by N. Main St. on the N., Maple St. on the E., 9th Ave. E. on the S., and Locust St. on the W, Hendersonville, 08001291, LISTED, 1/08/09 (Hendersonville MPS)

Wake County,

Mount Hope Cemetery, 1100 Fayetteville St., Raleigh, 08001292, LISTED, 1/08/09

OHIO

Hamilton County,

Hyde Park Methodist Episcopal Church, 1345 Grace Ave., Cincinnati, 08001294, LISTED, 1/07/09

Hamilton County,

Nurre-Royston House, 4330 Errun La., Cincinnati vicinity, 08001295, LISTED, 1/08/09

Lawrence County,

Downtown Ironton Historic District, Portions of 2nd, 3rd, 4th, 5th, Center Sts., Park Ave., Vernon St. and Bobby Bare Blvd., Ironton, 08001296, LISTED, 1/08/09

Montgomery County,

Julienne Girls Catholic High School, 325 Homewood Ave., Dayton, 08001297, LISTED, 1/08/09

Stark County,

Dobkins, John and Syd, House, 5120 Plain Center N.E., Canton, 08001298, LISTED, 1/08/09

TEXAS

Dallas County,

Dallas Downtown Historic District (Boundary Increase), Bounded by Jackson, North Hardwood Commerice, N.-S. line between S. Pearl Exwy., and S. Hardwood Canton, Dallas, 08001299, LISTED, 1/09/09

Tarrant County,

Westbrook, Roy A. and Gladys, House, 2232 Winton Terrace W., Fort Worth, 08001300, LISTED, 1/08/09

WASHINGTON

King County,

Redmond City Park, 7802 168th Ave NE, Redmond, 08001302, LISTED, 1/06/09

WISCONSIN

Wood County,

Parkin Ice Cream Company, 108 W. 9th St., Marshfield, 08001303, LISTED, 1/08/09

WYOMING

Big Horn County,

Hyart Theater, The, 251 E. Main St., Lovell, 08001304, LISTED, 1/08/09

Laramie County,

Moore Haven Heights Historic District, Bent Ave. on the W., E. of Central Ave. on E., W. 8th Ave. on N., W. Pershing Blvd on the S., Cheyenne, 08001305, LISTED, 1/08/09

Sweetwater County,

Green River Downtown Historic District, 72-142 Flaming Gorge Way, 58-94 N. 1st St., 125-200 E. Railroad Ave., 62-94 N. 1st E. St., Pedestrian Overpass, Green River, 08001306, LISTED, 1/08/09

[FR Doc. E9-3674 Filed 2-19-09; 8:45 am]

BILLING CODE 4310-70-P